DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 20, 2007.

Interested persons are invited to submit written comments regarding the subject matter of the investigations to the Director, Division of Trade Adjustment Assistance, at the address shown below, not later than February 20, 2007.

The petitions filed in this case are available for inspection at the Office of the Director, Division of Trade Adjustment Assistance, Employment and Training Administration, U.S. Department of Labor, Room C-5311, 200 Constitution Avenue, NW., Washington, DC 20210.

Signed at Washington, DC, this 1st day of February 2007.
Ralph Dibattista,
Director, Division of Trade Adjustment Assistance.

Appendix
[TAA petitions instituted between 1/22/07 and 1/26/07]
TA-W | Subject firm (petitioners) | Location | Date of institution | Date of petition
60794 | Peterbilt Motors Company (AFLCIO) | Madison, TN | 01/22/07 | 01/19/07
60795 | Pride Manufacturing Company (Comp) | Burnham, ME | 01/22/07 | 01/19/07
60796 | Parkdale-Townsend Plant (Wkrs) | Graniteville, SC | 01/22/07 | 01/17/07
60797 | VIA Information Tools, Inc. (Wkrs) | Troy, MI | 01/22/07 | 01/16/07
60798 | Leica Geosystems GRR, LLC (Comp) | Grand Rapids, MI | 01/22/07 | 01/19/07
60799 | Ecoquest Holding Corporation (Wkrs) | Greeneville, TN | 01/22/07 | 01/19/07
60800 | Volvo Truck North America (UAW) | Dublin, VA | 01/22/07 | 01/19/07
60801 | Collins and Aikman—Tooling and Equipment Grp. (Union) | Dover, NH | 01/22/07 | 01/19/07
60802 | Collin and Aikman (Comp) | Farmington, NH | 01/22/07 | 01/19/07
60803 | Fluidyne Manufacturing/Lorenz Ind. (Comp) | Ansonia, CT | 01/22/07 | 01/19/07
60804 | Fedders USA (Comp) | Effingham, IL | 01/22/07 | 01/18/07
60805 | Saxonburg Ceramics Inc. (Comp) | Saxonburg, PA | 01/22/07 | 01/19/07
60806 | Berwick/Offray (Wkrs) | Berwick, PA | 01/22/07 | 01/19/07
60807 | Nothelfer Gilman, Inc. (Comp) | Janesville, WI | 01/22/07 | 01/19/07
60808 | Invista S.a.r.l—Chattanooga Plant (Comp) | Chattanooga, TN | 01/22/07 | 01/15/06
60809 | Woods Equipment Co. (Comp) | Gardner, MA | 01/23/07 | 01/09/07
60810 | Interstate Steel Co. (Comp) | Des Plaines, IL | 01/23/07 | 01/12/07
60811 | George Weston Bakeries (State) | Bayshore, KY | 01/23/07 | 01/22/07
60812 | J.S. Die and Mold (Wkrs) | Byron Center, MI | 01/23/07 | 01/19/07
60813 | New State Fashion, Inc. (Wkrs) | New York, NY | 01/23/07 | 01/22/07
60814 | Pall Life Sciences (Comp) | Ann Arbor, MI | 01/23/07 | 01/19/07
60815 | Dicey Mills, Inc. (Comp) | Shelby, NC | 01/24/07 | 01/22/07
60816 | Cooper Standard Automotive (Worker) | Goldsboro, NC | 01/24/07 | 01/23/07
60817 | Fleetwood Folding Trailers, Inc. (Comp) | Somerset, PA | 01/24/07 | 01/23/07
60818 | Case New Holland, LLC (Comp) | Goodfield, IL | 01/24/07 | 01/23/07
60819 | EMS-Enchanced Manufacturing Solutions (Worker) | New Castle, IN | 01/24/07 | 01/15/07
60820 | Spencerville Metal Systems (UAW) | Spencerville, OH | 01/24/07 | 01/09/07
60821 | Eagle Picher/Hillsdale Automotive (UAW) | Traverse City, MI | 01/24/07 | 01/19/07
60822 | Shiloh Industries (UAW) | Parma, OH | 01/24/07 | 01/23/07
60823 | Industrial Metal Products Corporation (UAW) | Lansing, MI | 01/24/07 | 01/19/07
60824 | Hamilton Sundstrand (Rockford Manufacturing)(UAW) | Rockford, IL | 01/24/07 | 01/19/07
60825 | Golden Ratio Woodworks (Wkrs) | Emigrant, MT | 01/25/07 | 01/23/07
60826 | Paxar Americas, Inc. Machine Division (Comp) | Sayre, PA | 01/25/07 | 01/16/07
60827 | Sun Microsystems (Wkrs) | Louisville, CO | 01/25/07 | 01/19/07
60828 | Stimson Lumber Company (LPIW) | Libby, MT | 01/25/07 | 01/24/07
60829 | F and M Hat Company, Inc. (Wkrs) | Denver, PA | 01/25/07 | 01/24/07
60830 | GE Aviation Engine Services West Coast Operation Plant #1 (State) | Ortario, CA | 01/25/07 | 01/23/07
60831 | Kreehler Furniture Mfg. Co. Inc. (Comp) | Conover, NC | 01/25/07 | 01/24/07
60832 | Lear Corporation (Wkrs) | Madisonville, KY | 01/25/07 | 01/12/07
60833 | Master Halco (State) | Fontana, CA | 01/25/07 | 01/23/07
60834 | CEP Products, LLC (Comp) | Vandalia, OH | 01/25/07 | 12/31/06
60835 | Kimberly Clark Global Sales and Kimberly Clark World Wide (Comp) | Neenah, WI | 01/25/07 | 01/24/07
60836 | Velsicol Chemical Corporation (Comp) | Chattanooga, TN | 01/25/07 | 01/24/07
60837 | Bright Horizons/MSX (Wkrs) | Norfolk, VA | 01/26/07 | 01/11/07
60838 | Goodyear Tire and Rubber Corporation (Wkrs) | Lincoln, NE | 01/26/07 | 01/25/07
60839 | Johnco Hosiery (Comp) | Fort Payne, AL | 01/26/07 | 01/22/07
60840 | Marathon Apparel (Comp) | Childersburg, AL | 01/26/07 | 01/25/07
60841 | Eagle Picher (UAW) | Traverse City, MI | 01/26/07 | 01/19/07
60842 | United Parcel Service Inc. (Wkrs) | Dayton, OH | 01/26/07 | 01/14/07
60843 | Clorox Company (The) (Wkrs) | Oakland, CA | 01/26/07 | 01/24/07

[FR Doc. E7-2162 Filed 2-8-07; 8:45 am]

BILLING CODE 4510-10-P